NATIONAL SCIENCE FOUNDATION

Request for Comments on the Intent To Discontinue Part 2 of the Survey of Science and Engineering Research Facilities on Computing and Networking Capacity

AGENCY: National Science Foundation.

ACTION: Request for comments.

SUMMARY: This notice announces the intent of the National Center for Science and Engineering Statistics (NCSES) at the National Science Foundation (NSF) to discontinue data collection for Part 2 of the Survey of Science and Engineering Research Facilities (Facilities Survey) (OMB Clearance Number 3145-0101) on computing and networking capacity at academic institutions. This notice is in response to an effort by NCSES to assess the value of these data.

DATES: Send your written comments by August 15, 2014.

ADDRESSES: Send your written comments to Mr. John R. Gawalt, Director, National Center for Science and Engineering Statistics, National Science Foundation, 4201 Wilson Blvd., Room 965, Arlington, VA 22230. Send email comments to jgawalt@nsf.gov.

FOR FURTHER INFORMATION CONTACT: Mr. John R. Gawalt, Director, National Center for Science and Engineering Statistics, National Science Foundation at (703) 292-7776 or email at jgawalt@nsf.gov.

SUPPLEMENTARY INFORMATION: Data on the academic research infrastructure are collected biennially through the NSF's congressionally mandated Facilities Survey. The survey originated in 1986 in response to Congress's concern about the state of research facilities at the nation's colleges and universities. Part 1 of the Facilities Survey collects data on the amount, condition, construction, repair, renovation, and funding of research facilities. This section, focusing largely on research space, will continue. Recognizing the growing use of networking and computing capacity (cyberinfrastructure) in conducting research, a new set of questions on these topics was added to the FY 2003 Facilities Survey and revised for the FY 2005, FY 2007, FY 2009, FY 2011 and FY 2013 surveys.

NCSES has continually reviewed the Part 2 questionnaire in an attempt to stay current with the rapidly changing developments in academic R&D cyberinfrastructure. Despite these efforts, NCSES believes that the survey provides little utility to policymakers, researchers and other data users. Field experts and review panels have noted several critical shortcomings of Part 2 collections. Rapid advances in research cyberinfrastructure make identifying current and valuable metrics difficult. This challenge is compounded by the length of the data collection and publication cycle, which typically requires 16 months after the end of the relevant fiscal year. The continual need to update metrics combined with time required for production and publication reduces the relevancy of the data. In addition, to facilitate data collection and ease survey response burden, respondents to the Facilities Survey are asked to report only on centrally-administered cyberinfrastructure capacity. More than 20 of the top 100 academic research institutions (based on research expenditures) cannot report data on their high-performance computing because these resources are not centrally-administered. Another 15 or more institutions in the top 100 report exceptionally low totals for the same reason. Because so many of the top research universities are unable to adequately report their total computing and networking capacity, the utility of these data are severely undermined. These institution-specific differences limit the ability to present national totals and trends as well as the ability to compare many leading institutions.

The NCSES is interested in all comments, especially from government policy makers, academic institution respondents, and academic researchers that specify concerns related to the discontinuation of Part 2 of the Facilities Survey.

June 17, 2014.
Suzanne H. Plimpton,
Reports Clearance Officer, National Science Foundation.

[FR Doc. 2014-14589 Filed 6-20-14; 8:45 am]

BILLING CODE 7555-01-P